DEPARTMENT OF THE TREASURY

Internal Revenue Service

Modem Speeds for Electronic Filing

AGENCY: Internal Revenue (IRS), Treasury.

ACTION: Notice.

SUMMARY: This announcement serves as notice that the Internal Revenue Service is exploring the feasibility of eliminating modem speeds under 28.8Kbps for Electronic Filing. The Electronic Tax Administration (ETA) would like to solicit feedback from its customers on the minimum modem speed you are using and the minimum speed your business could support. Contact the individual listed below prior to September 4, 2000.

ADDRESSES: Questions or concerns should be directed to Dapheny McCray, Program Analyst, IRS, Electronic Tax Administration, OP:ETA:I:I, 5000 Ellin Road, Room C4-188, Lanham, MD 20706.

FOR FURTHER INFORMATION CONTACT: Questions or concerns will also be taken over the telephone. Call 202-283-0685 (not a toll-free number) or via email to: Daphney.Mccray@irs.gov

JoAnn N. Blank,
National Director, Individual Electronic Filing Division.

[FR Doc. 00-20430 Filed 8-10-00; 8:45 am]

BILLING CODE 4830-01-U